DEPARTMENT OF LABOR

Employment and Training Administration

[TA-W-65,917]

BonaKemi USA, Incorporated, Monroe, NC; Notice of Termination of Investigation

Pursuant to Section 221 of the Trade Act of 1974, as amended, an investigation was initiated on May 14, 2009 in response to a petition filed by a company official on behalf of workers of BonaKemi USA, Incorporated, Monroe, North Carolina.

The petitioner has requested that the petition be withdrawn. Therefore, the investigation under this petition has been terminated.

Signed at Washington, DC, this 6th day of July 2009.
Linda G. Poole,
Certifying Officer, Division of Trade Adjustment Assistance.

[FR Doc. E9-18042 Filed 7-28-09; 8:45 am]

BILLING CODE 4510-FN-P